POSTAL SERVICE

Temporary Emergency Committee of the Board of Governors; Sunshine Act Meeting

Dates and Times: December 23, 2014, at 1:00 p.m.

Place: Washington, DC, via Teleconference.

Status: Committee Votes to Close December 23, 2014, Meeting: By telephone vote on December 23, 2014, members of the Temporary Emergency Committee of the Board of Governors of the United States Postal Service met and voted unanimously to close to public observation its meeting held in Washington, DC, via teleconference. The Committee determined that no earlier public notice was possible.

Matters Considered:

Tuesday, December 23, 2014, at 1:00 p.m.

1. Strategic Issues.

2. Financial Matters.

General Counsel Certification: The General Counsel of the United States Postal Service has certified that the meeting was properly closed under the Government in the Sunshine Act.

Contact Person for More Information: Julie S. Moore, Secretary of the Board, U.S. Postal Service, 475 L'Enfant Plaza SW., Washington, DC 20260-1000, telephone (202) 268-4800.

Julie S. Moore,
Secretary, Board of Governors.

[FR Doc. 2014-30977 Filed 12-31-14; 4:15 pm]

BILLING CODE 7710-12-P